DEPARTMENT OF HOMELAND SECURITY

Coast Guard

33 CFR Part 117

[CGD01-06-092]

Drawbridge Operation Regulations; Hackensack River, Jersey City, NJ

AGENCY: Coast Guard, DHS.

ACTION: Notice of temporary deviation from regulations.

SUMMARY: The Commander, First Coast Guard District, has issued a temporary deviation from the regulation governing the operation of the Path Bridge, across the Hackensack River, mile 3.0, at Jersey City, New Jersey. This deviation allows the bridge to remain in the closed position every Saturday and Sunday from July 22, 2006 through September 18, 2006. This deviation is necessary to facilitate scheduled bridge maintenance.

DATES: This deviation is effective from July 22, 2006 through September 18, 2006.

ADDRESSES: Materials referred to in this document are available for inspection or copying at the First Coast Guard District, Bridge Branch Office, One South Street, New York, New York, 10004, between 7 a.m. and 3 p.m., Monday through Friday, except Federal holidays. The telephone number is (212) 668-7165. The First Coast Guard District Bridge Branch Office maintains the public docket for this temporary deviation.

FOR FURTHER INFORMATION CONTACT: Joe Arca, Project Officer, First Coast Guard District, at (212) 668-7165.

SUPPLEMENTARY INFORMATION: The Path Bridge, across the Hackensack River, mile 3.0, at Jersey City, New Jersey, has a vertical clearance in the closed position of 40 feet at mean high water and 45 feet at mean low water. The existing regulation is listed at 33 CFR 117.723(a)(5).

The owner of the bridge, Port Authority of New York and New Jersey, requested a temporary deviation to facilitate scheduled structural bridge repairs, miter rail replacement. In order to perform the above repairs the bridge must remain in the closed position and the work performed on Saturdays and Sundays when the rail traffic is less frequent.

Under this temporary deviation the Path Bridge across the Hackensack River, mile 3.0, at Jersey City, New Jersey, shall remain in the closed position on every Saturday and Sunday from July 22, 2006 through September 18, 2006.

Vessels that can pass under the draw without a bridge opening may do so at all times.

In accordance with 33 CFR 117.35(c), this work will be performed with all due speed in order to return the bridge to normal operation as soon as possible. This deviation from the operating regulations is authorized under 33 CFR 117.35.

Dated: July 20, 2006.
Gary Kassof,
Bridge Program Manager, First Coast Guard District.

[FR Doc. E6-12279 Filed 7-31-06; 8:45 am]

BILLING CODE 4910-15-P